DEPARTMENT OF TRANSPORTATION

Federal Aviation Administration

14 CFR Part 39

[Docket No. FAA-2006-23611; Directorate Identifier 2005-NM-250-AD; Amendment 39-14453; AD 2006-02-01]

RIN 2120-AA64

Airworthiness Directives; Airbus Model A330-200 and -300 Series Airplanes, Model A340-200 and -300 Series Airplanes, and Model A340-541 and A340-642 Airplanes

AGENCY: Federal Aviation Administration (FAA), Department of Transportation (DOT).

ACTION: Final rule; request for comments.

SUMMARY: The FAA is adopting a new airworthiness directive (AD) for all Airbus Model A330-200 and -300 series airplanes, Model A340-200 and -300 series airplanes, and Model A340-541 and A340-642 airplanes. This AD requires revising the airplane flight manual by incorporating new procedures to follow in the event of a fuel leak. This AD results from a determination that, once a fuel leak is detected, fuel management procedures are a critical factor in limiting the consequences of the leak. We are issuing this AD to ensure that the flightcrew, in the event of a fuel leak, is advised of appropriate procedures to follow, such as isolating the fuel tanks, stopping any fuel transfers, and landing as soon as possible. Failure to follow these procedures could result in excessive fuel loss that could cause the engines to shut down during flight.

DATES: This AD becomes effective February 3, 2006.

The Director of the Federal Register approved the incorporation by reference of certain publications listed in the AD as of February 3, 2006.

We must receive comments on this AD by March 20, 2006.

ADDRESSES: Use one of the following addresses to submit comments on this AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, room PL-401, Washington, DC 20590.

• Fax: (202) 493-2251.

• Hand Delivery: Room PL-401 on the plaza level of the Nassif Building, 400 Seventh Street, SW., Washington, DC, between 9 a.m. and 5 p.m., Monday through Friday, except Federal holidays.

Contact Airbus, 1 Rond Point Maurice Bellonte, 31707 Blagnac Cedex, France, for service information identified in this AD.

FOR FURTHER INFORMATION CONTACT: Tim Backman, Aerospace Engineer, International Branch, ANM-116, Transport Airplane Directorate, FAA, 1601 Lind Ave., SW., Renton, WA 98055-4056; telephone (425) 227-2797; fax (425) 227-1149.

SUPPLEMENTARY INFORMATION:

Discussion

The Direction Générale de l'Aviation Civile (DGAC), which is the airworthiness authority for France, notified us that an unsafe condition may exist on all Airbus Model A330-200 and -300 series airplanes, Model A340-200 and -300 series airplanes, and Model A340-541 and A340-642 airplanes. The DGAC notified us of an incident in which an Airbus Model A330-200 series airplane was diverted due to an extensive fuel leak. During the diversion, both engines shut down due to lack of fuel. The airplane made a successful emergency landing. This event and a subsequent review of major fuel leaks demonstrated that, after a fuel leak is detected, the flightcrew's fuel management procedures are a critical factor in limiting the consequences of a fuel leak. Failure to follow proper procedures in the event of a fuel leak could result in excessive fuel loss that could cause the engines to shut down during flight.

The fuel systems on Airbus Model A330-300 series airplanes, Model A340-200 and -300 series airplanes, and Model A340-541 and A340-642 airplanes, are similar to that on the affected Model A330-200 airplane. Therefore, Airbus Model A330-300 series airplanes, Model A340-200 and—300 series airplanes, and Model A340-541 and A340-642 airplanes, may be subject to the unsafe condition revealed on the Model A330-200 series airplane.

Relevant Service Information

Airbus has issued the temporary revisions (TRs) to the Limitations section of the A330/340 Airplane Flight Manual (AFM), as listed in the table below.

Airbus AFM Temporary Revisions
Affected airplane models/series | AFM TR | TR approval date
A330-200 series airplanes | 4.02.00/31 | October 19, 2005.
A330-300 series airplanes | 4.02.00/32 | October 19, 2005.
A340-200 and -300 series airplanes | 4.02.00/46 | October 19, 2005.
A340-541 airplanes | 4.02.00/48 | October 19, 2005.
A340-642 airplanes | 4.02.00/47 | October 19, 2005.

The TRs describe new procedures to follow in the event of a fuel leak. These procedures remove the gravity-feeding requirement when the leak is not from the engine or is not found; they also involve isolating the fuel tanks and stopping any fuel transfers in order to determine the location of a fuel leak and to stop or minimize the leak, and landing as soon as possible. The DGAC mandated the TRs and issued French airworthiness directives F-2005-195 and F-2005-196, both dated December 7, 2005, to ensure the continued airworthiness of these airplanes in France.

Differences Between the AD and French Airworthiness Directives

The French airworthiness directives require revising the AFM before further flight. This AD requires revising the AFM within 10 days after the effective date of the AD. In developing an appropriate compliance time for this AD, we considered the DGAC's recommendations in the French airworthiness directives and the degree of urgency associated with the subject unsafe condition. In light of all of these factors, we find that a 10-day compliance time represents an appropriate interval of time for affected airplanes to continue to operate without compromising safety.

FAA's Determination and Requirements of This AD

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. We have examined the DGAC's findings, evaluated all pertinent information, and determined that we need to issue an AD for products of these type designs that are certificated for operation in the United States.

Therefore, we are issuing this AD to ensure that the flightcrew is advised of appropriate procedures to follow in the event of a fuel leak, such as isolating the fuel tanks, stopping any fuel transfers, and landing as soon as possible. Failure to follow these procedures could result in excessive fuel loss that could cause the engines to shut down during flight. This AD requires revising the AFM to include the TRs described previously.

FAA's Determination of the Effective Date

An unsafe condition exists that requires the immediate adoption of this AD; therefore, providing notice and opportunity for public comment before the AD is issued is impracticable, and good cause exists to make this AD effective in less than 30 days.

Comments Invited

This AD is a final rule that involves requirements that affect flight safety and was not preceded by notice and an opportunity for public comment; however, we invite you to submit any relevant written data, views, or arguments regarding this AD. Send your comments to an address listed in the ADDRESSES section. Include “Docket No. FAA-2006-23611; Directorate Identifier 2005-250-AD” at the beginning of your comments. We specifically invite comments on the overall regulatory, economic, environmental, and energy aspects of the AD that might suggest a need to modify it.

We will post all comments we receive, without change, to http://dms.dot.gov, including any personal information you provide. We will also post a report summarizing each substantive verbal contact with FAA personnel concerning this AD. Using the search function of that web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2006-02-01 Airbus: Amendment 39-14453. Docket No. FAA-2006-23611; Directorate Identifier 2005-NM-250-AD.

Effective Date

(a) This AD becomes effective February 3, 2006.

Affected ADs

(b) None.

Applicability

(c) This AD applies to all Airbus Model A330-201, -202, -203, -223, -243, -301, -321, -322, -323, -341, -342, and -343 airplanes; and Model A340-211, -212, -213, -311, -312, -313, -541, and -642 airplanes; certificated in any category.

Unsafe Condition

(d) This AD results from a determination that, once a fuel leak is detected, fuel management procedures are a critical factor in limiting the consequences of the leak. We are issuing this AD to ensure that the flightcrew, in the event of a fuel leak, is advised of appropriate procedures to follow, such as isolating the fuel tanks, stopping any fuel transfers, and landing as soon as possible. Failure to follow these procedures could result in excessive fuel loss that could cause the engines to shut down during flight.

Compliance

(e) You are responsible for having the actions required by this AD performed within the compliance times specified, unless the actions have already been done.

Airplane Flight Manual (AFM) Revision

(f) Within 10 days after the effective date of this AD, revise the Limitations section of the A330/A340 AFM to include the information in the applicable temporary revision (TR) listed in Table 1 of this AD. Thereafter, operate the airplane according to the limitations and procedures in the applicable TR.

Table 1.—Airbus AFM Temporary Revisions
Affected airplane models/series | AFM TR | TR approval date
A330-201, -202, -203, -223, and -243 airplanes | 4.02.00/31 | October 19, 2005.
A330-301, -321, -322, -323, -341, -342, and -343 airplanes | 4.02.00/32 | October 19, 2005.
A340-211, -212, -213, -311, -312, and -313 airplanes | 4.02.00/46 | October 19, 2005.
A340-541 airplanes | 4.02.00/48 | October 19, 2005.
A340-642 airplanes | 4.02.00/47 | October 19, 2005.

Note 1: The action required by paragraph (f) of this AD may be done by inserting into the AFM a copy of the applicable TR listed in Table 1 of this AD. When this TR has been included in the general revisions of the AFM, the general revisions may be inserted into the AFM, provided the relevant information in the general revision is identical to that in the applicable TR listed in Table 1 of this AD.

Alternative Methods of Compliance (AMOCs)

(g)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(h) French airworthiness directives F-2005-195 and F-2005-196, both dated December 7, 2005, also address the subject of this AD.

Material Incorporated by Reference

(i) You must use the documents listed in Table 2 of this AD to perform the actions that are required by this AD, unless the AD specifies otherwise. (The TR approval date is identified only on the first page of each TR; no other page of these documents contains the approval date.) The Director of the Federal Register approved the incorporation by reference of these documents in accordance with 5 U.S.C. 552(a) and 1 CFR part 51. Contact Airbus, 1 Rond Point Maurice Bellonte, 31707 Blagnac Cedex, France, for a copy of this service information. You may review copies at the Docket Management Facility, U.S. Department of Transportation, 400 Seventh Street SW., room PL-401, Nassif Building, Washington, DC; on the Internet at http://dms.dot.gov; or at the National Archives and Records Administration (NARA). For information on the availability of this material at the NARA, call (202) 741-6030, or go to http://www.archives.gov/federal_register/code_federal_regulations/ibr_locations.html.

Table 2.—Material Incorporated by Reference
Airbus temporary revisions to the Airbus A330/A340 airplane flight manual | Temporary revision approval date
4.02.00/31 | October 19, 2005.
4.02.00/32 | October 19, 2005.
4.02.00/46 | October 19, 2005.
4.02.00/47 | October 19, 2005.
4.02.00/48 | October 19, 2005.

Issued in Renton, Washington, on January 9, 2006.
Ali Bahrami,
Manager, Transport Airplane Directorate, Aircraft Certification Service.

[FR Doc. 06-450 Filed 1-18-06; 8:45 am]

BILLING CODE 4910-13-P